DEPARTMENT OF DEFENSE

Office of the Secretary

Reserve Forces Policy Board; Notice of Federal Advisory Committee Meeting AGENCY: Under Secretary of Defense for Personnel and Readiness (USD(P&R)), Department of Defense (DoD).

ACTION: Notice of Federal advisory committee meeting.

SUMMARY: The DoD is publishing this notice to announce that the following Federal advisory committee meeting of the Reserve Forces Policy Board (RFPB) will take place. DATES: The RFPB will hold a meeting on Wednesday, December 6, 2023, from 8:30 a.m. to 2:30 p.m. The first portion of the meeting, from 8:30 a.m. to 11:45 a.m., will be closed to the public. The second portion of the meeting, from 11:50 a.m. to 2:30 p.m., will be open to the public.

ADDRESSES: The RFPB meetings will be held in person at the Pentagon Library and Conference Center, Room M2, The Pentagon, Arlington, Virginia 20301.

FOR FURTHER INFORMATION CONTACT: Eric Flowers, Designated Federal Officer (DFO), at Eric.P.Flowers2.civ@mail.mil or 703-697-1795. Mailing address is Reserve Forces Policy Board, 5109 Leesburg Pike, Suite 501, Falls Church, Virginia 22041. The most up-to- date changes to the meeting agenda can be found on the website: https://rfpb.defense.gov/.

SUPPLEMENTARY INFORMATION: Due to circumstances beyond the control of the Designated Federal Officer, the Reserve Forces Policy Board was unable to provide public notification required by 41 CFR 102-3.150(a) concerning its December 6, 2023, meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The purpose of the meeting is to obtain, review, and evaluate relevant information related to strategies, policies, and practices designed to improve and enhance the capabilities, efficiency, and effectiveness of the Reserve Component (RC).

Agenda: The RFPB will hold a closed meeting to the public from 8:30 a.m. to 11:45 a.m. After opening comments by the RFPB's DFO, Military Executive, and Chairperson, participants will receive classified briefings on cyber and homeland defense matters and engage in a classified discussion on the National Guard and Reserve Equipment Appropriation (NGREA). Dr. Paul Stockton, a member of the RFPB, will provide introductory comments to the cyber and homeland defense brief by addressing specific portions of the DoD Classified Cyber Security Strategy that pertain to unique mission sets that are solely applicable to the RCs in various cyber defense and defense of critical infrastructure missions. Dr. Stockton's comments will provide the RFPB members with relevant context to the cyber and homeland defense brief. The cyber and homeland defense brief will be jointly presented by Major General William J. Hartman, U.S. Army, Cyber National Mission Force Commander and Major General Rich Neely, U.S. Air National Guard, Adjutant General/Commander of the Illinois National Guard. The generals will discuss the RCs' expected roles in various cyber-related contingency plans associated with the DoD Classified Cyber Security Strategy. The closed portion concludes with a classified discussion on the NGREA facilitated by Colonel Sam Cook, U.S. Army (Retired). Colonel (Retired) Cook will provide an analysis and facilitate a classified discussion on the feasible impacts on the Military Services' Fiscal Year 2025 Presidential Budget requests and the RC's corresponding use of the NGREA to mitigate modernization and interoperability shortcomings resulting from the United States' execution of classified military plans related to the Presidential Drawdown's transference of RC equipment to the Ukrainian armed forces. The open session will commence with opening statements by The RFPB's DFO and Chairperson. The RFPB will receive updates from the subcommittees. The Subcommittee for RCs' Role in Homeland Defense and Support to Civil Authorities will provide an update on its task to provide to the RFPB independent advice on improving strategies, policies, and practices of the RCs' capabilities in homeland defense and support to civil authorities specifically as it relates to defense of critical infrastructure. The Subcommittee for Integration of Total Force Personnel Policy will provide an update on its task to provide to the RFPB independent advice on improving strategies, policies, and practices of the RCs' personnel management, specifically as it relates to mobilization considerations pertaining to RC personnel with cyber-related military occupational specialties. The Subcommittee for Total Force Integration will provide an update on its task to provide to the RFPB independent advice to improve and enhance the capabilities, efficiency, and effectiveness of the RCs in support of the Total Force, specifically as it relates to equipping parity between the Active Component and RC. At the conclusion of the RFPB business segment, participants will break for lunch. After lunch, the Acting Under Secretary of Defense for Personnel and Readiness, the Honorable Ashish Vazirani, will provide an overview of the Department's guidance on policies and programs specifically related to the RCs. Honorable Vazirani will be followed by Secretary of Defense, Lloyd Austin, who will provide a brief on the role of the RC and the new National Defense Strategy. The meeting will adjourn at the conclusion of Secretary Austin's remarks.

Meeting Accessibility: In accordance with section 1009(d) of the FACA and 41 CFR 102- 3.155, the DoD has determined that between 8:30 a.m. to 11:45 a.m. the meeting will be closed to the public. Specifically, the USD(P&R), in coordination with the DoD FACA attorney, has determined in writing that this portion of the meeting will be closed to the public because it is likely to disclose classified matters covered by 5 U.S.C. 552b(c)(1). Such classified material is so intertwined with the unclassified material that it cannot reasonably be segregated into separate discussions without defeating the effectiveness and meaning of these portions of the meeting. Pursuant to section 1009(a)(1) of the FACA and 41 CFR 102-3.140 and 102-3.150, the portions of the meeting from 11:50 a.m. to 2:30 p.m. are open to the public. All members of the public who wish to attend the public meeting must contact Mr. Eric Flowers, DFO, no later than 7:00 a.m. on Wednesday, December 6, 2023, at 703-697-1795 or 703-945-5203, or eric.p.flowers2.civ@mail.mil.

Written Statements: Pursuant of Title 41 CFR 102-3.105(j) and section 1009(a)(3) of the FACA, the public and interested parties may submit written statements to the RFPB at any time about its approved agenda or at any time on the RFPB's mission. Written statements should be submitted to the RFPB's DFO at the address or email listed in the FOR FURTHER INFORMATION CONTACT section. If statements pertain to a specific topic being discussed at the meeting that is the subject of this notice, then these statements must be submitted no later than 3 business days prior to the scheduled meeting date. Written statements received after this date may not be provided to or considered by the RFPB until its next scheduled meeting. The DFO will review all timely submitted written statements and provide copies to the RFPB members before the meeting that is the subject of this notice. Please note that all submitted comments will be made available for public inspection, including but not limited to being posted on the RFPB's website.

Dated: December 4, 2023.
Natalie M. Ragland,
Alternate OSD Federal Register Liaison Officer, Department of Defense.

[FR Doc. 2023-26890 Filed 12-6-23; 8:45 am]

BILLING CODE 6001-FR-P